DEPARTMENT OF HOUSING AND URBAN DEVELOPMENT

[Docket No. FR-7062-N-12]

Privacy Act of 1974; System of Records

AGENCY: Office of Chief Financial Officer, HUD.

ACTION: Notice of a modified system of records.

SUMMARY: Financial Data Mart (FDM) is a warehouse of data extracted from various HUD systems and is supported by several query tools for improved financial and program data reporting. FDM facilitated the viewing understanding and reporting of financial data. FDM is the primary reporting tool used to generate internal ad-hoc reports, scheduled event-driven reports, and queries.

DATES: Comments will be accepted on or before September 16, 2022. This proposed action will be effective. The SORN becomes effective immediately, while the routine uses become effective after the comment period immediately upon publication except for the routine uses, which will become effective on the date following the end of the comment period unless comments are received which result in a contrary determination

ADDRESSES: You may submit comments, identified by docket number by one method:

Federal e-Rulemaking Portal: http://www.regulations.gov. Follow the instructions provided on that site to submit comments electronically.

Fax: 202-619-8365.

Email: www.privacy@hud.gov.

Mail: Attention: Privacy Office, Mr. LaDonne White; The Executive Secretariat; 451 Seventh Street SW, Room 10139; Washington, DC 20410-1000.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410; telephone number 202-708-3054 (this is not a toll-free number). Individuals hearing- or speech-impaired may access this telephone number via TTY by calling the Federal Relay Service at 800-877-8339 (this is a toll-free number).

SUPPLEMENTARY INFORMATION: The following are amended from the previous SORN—

• Authority for Maintenance of the System: Updated legal citation by replacing “Sec. 113 of the Budget and Accounting Act of 1951 (31 U.S.C.66a)” with “31 U.S.C. 3511.”

• Updated Categories of Individuals Covered by System to reflect the collections of the system.

• Updated Categories of Records in the System to reflect the collections of the system. Non-substantive changes were made.

• Updated Policies and Practices for Storage of Records to be more specific on how records are stored in FDM.

• Updated Policies and Practices for Retention and Disposal of Records to reflect the correct General Records Schedule.

• Updated Administrative, Technical, and Physical Safeguards to reflect additional safeguards identified for FDM.

• Updated the Routine Use section to explicitly include HUD's Routine Uses that were included by reference only.

• Added Routine Use 14-16 to follow Routine Uses for A75 HUDCAPS and A67 LOCCS, which transmit data to FDM.

• Updated Record Access Procedures, Contesting Record Procedures, and Notification Procedures to comply with HUD Privacy Office's procedures and format.

SYSTEM NAME AND NUMBER:

Financial Data Mart (FDM, A75R).

SECURITY CLASSIFICATION:

Unclassified.

SYSTEM LOCATION:

HUD Headquarters, 451 7th Street SW, Washington, DC 20410 and National Center for Critical Information Processing and Storage (NCCIPS), Stennis Space Center, MS 39529-6000. The backup data center is at Mid-Atlantic Data Center in Clarksville, VA 23927-3201.

SYSTEM MANAGER(S):

Sairah R. Ijaz, Assistant Chief Financial Officer for Systems, Office of the Chief Financial Officer, Department of Housing and Urban Development, 451 Seventh Street SW, Room 3100, Washington, DC 20410-0001.

AUTHORITY FOR MAINTENANCE OF THE SYSTEM:

31 U.S.C. 3511, The Chief Financial Officers Act of 1990 (31 U.S.C. 901, et seq.), Executive Order 9397, as amended by Executive Order 13478, Housing and Community Development Act of 1987, 42 U.S.C. 3543.

PURPOSE(S) OF THE SYSTEM:

A75R Financial Data Mart (FDM) is a warehouse of data extracted from a variety of HUD's financial systems and is supported by several query tools for the purpose of improved financial and program data reporting. A75R FDM was designed to facilitate the viewing, understanding, and reporting of financial data. FDM is the primary reporting tool used to generate internal ad-hoc reports, scheduled event-driven reports, and queries. The FDM provides HUD:

• Timely and comparable financial management information

• Improved accounting processing control to detect, prevent and mitigate mistakes,

• fraud, waste, and mismanagement of funds

• Uniformity in financial information and reporting

• Quality assurance processes resulting in improved data integrity

• Improved timeliness of ad-hoc financial analyses

• Financial and programmatic reporting and dashboards for all HUD staff

• Application support for Open Obligation Review and user recertification processing

The system is used to summarize financial activity provided by HUD's critical financial systems.

CATEGORIES OF INDIVIDUALS COVERED BY THE SYSTEM:

Federal Employees, Contractors, and grant/subsidy/loan recipients.

CATEGORIES OF RECORDS IN THE SYSTEM:

The system contains Names, SSN, Tax-IDs (which may include SSNs for sole-proprietors), addresses, user-id, and financial information (e.g., deposit account number, bank routing number).

RECORD SOURCE CATEGORIES:

FDM receives records from other HUD information systems such as A75 HUD Central Accounting and Program Systems (HUDCAPS), A67 Line of Credit Control System (LOCCS), and P162 HUD Integrated Human Resources and Training System (HIHRTS). FDM also receives records from Department of Treasury, Administrative Resource Center (ARC)'s Oracle Federal Financials.

ROUTINE USES MAINTINED IN THE SYSTEM, INCLUDING CATEGORIES OF USERS AND PURPOSES OF SUCH USES:

(A) To a congressional office from the record of an individual, in response to an inquiry from the congressional office made at the request of that individual.

(B) To appropriate agencies, entities, and persons when: (I) HUD suspects or has confirmed that there has been a breach of the system of records; (II) HUD has determined that as a result of the suspected or confirmed breach there is a risk of harm to individuals, HUD (including its information systems, programs, and operations), the Federal Government, or national security; and (III) The disclosure made to such agencies, entities, and persons is reasonably necessary to assist in connection with HUD's efforts to respond to the suspected or confirmed breach or to prevent, minimize, or remedy such harm.

(C) To another Federal agency or Federal entity, when HUD determines that information from this system of records is reasonably necessary to assist the recipient agency or entity in (I) responding to a suspected or confirmed breach or (II) preventing, minimizing, or remedying the risk of harm to individuals, the recipient agency or entity (including its information systems, programs and operations), the Federal Government, or national security, resulting from a suspected or confirmed breach.

(D) To a court, magistrate, administrative tribunal, or arbitrator in the course of presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(E) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(F) To appropriate Federal, State, local, tribal, or other governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

(G) To Federal agencies, non-Federal entities, their employees, and agents (including contractors, their agents or employees; employees or contractors of the agents or designated agents); or contractors, their employees or agents with whom HUD has a contract, service agreement, grant, cooperative agreement, or computer matching agreement for the purpose of: (I) Detection, prevention, and recovery of improper payments; (II) detection and prevention of fraud, waste, and abuse in major Federal programs administered by a Federal agency or non-Federal entity; (III) for the purpose of establishing or verifying the eligibility of, or continuing compliance with statutory and regulatory requirements by, applicants for, recipients or beneficiaries of, participants in, or providers of services with respect to, cash or in-kind assistance or payments under Federal benefits programs or recouping payments or delinquent debts under such Federal benefits programs; (IV) detection of fraud, waste, and abuse by individuals in their operations and programs. Records under this routine use may be disclosed only to the extent that the information shared is necessary and relevant to verify pre-award and prepayment requirements prior to the release of Federal funds or to prevent and recover improper payments for services rendered under programs of HUD or of those Federal agencies and non-Federal entities to which HUD provides information under this routine use.

(H) To contractors, grantees, experts, consultants and their agents, or others performing or working under a contract, service, grant, cooperative agreement, or other agreement with HUD, when necessary to accomplish an agency function related to a system of records. Disclosure requirements are limited to only those data elements considered relevant to accomplishing an agency function.

POLICIES AND PRACTICES FOR STORAGE OF RECORDS:

Records are maintained in electronic format only.

POLICIES AND PRACTICES FOR RETRIEVAL OF RECORDS:

Records are retrieved by name, social security number, home address,

POLICIES AND PRACTICIES FOR RETENTION AND DISPOSAL OF RECORDS:

Destroy 6 years after final payment or cancellation, but longer retention is authorized if required for business use.

ADMINISTRATIVE, TECHNICAL, AND PHYSICAL SAFEGUARDS:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

FDM resides on the HUD OCIO Local Area Network (LAN). The HUD OCIO Infrastructure and Operations Office (IOO) secures the Stennis and Clarksville Data Centers where the LAN resides, and for backing up and encrypting FDM data. FDM sends and receives data through HUD SFTP (Security File Transfer Protocol), which encrypts the data. SSNs are encrypted in the database.

Supervisors determine and authorize FDM access for their employees, and OCFO checks their suitability by ensuring the user's investigation record is appropriate. The majority of FDM users are read-only and cannot enter data into FDM. An annual system user recertification is conducted to ensure each FDM user requires access to the system.

NOTIFICATION PROCEDURES:

Any person wanting to know whether this system of records contains information about him or her should contact the System Manager. Such person should provide his or her full name, position title and office location at the time the accommodation was requested, and a mailing address to which a response is to be sent.

RECORD ACCESS PROCEDURES:

Individuals seeking notification of and access to their records in this system of records may submit a request in writing to the Department of Housing and Urban Development, Attn: FOIA Program Office, 451 7th Street SW, Suite 10139, Washington, DC 20410-0001 or by emailing foia@hud.gov. Individuals must furnish the following information for their records to be located:

1. Full name.

2. Signature.

3. The reason why the individual believes this system contains information about him/her.

4. The address to which the information should be sent.

CONTESTING RECORD PROCEDURES:

Same as the Notification Procedures above.

EXEMPTIONS PROMULGATED FOR THE SYSTEM:

None.

HISTORY:

Docket No. FR-5763-N-03; 79 FR 16805 (March 26, 2014).

LaDonne White,
Chief Privacy Officer, Office of Administration.

[FR Doc. 2022-17708 Filed 8-16-22; 8:45 am]

BILLING CODE 4210-67-P